FEDERAL ELECTION COMMISSION

Sunshine Act Notices

AGENCY: Federal Election Commission.

Cancellations: Executive Session scheduled for February 24, 2009. Open Meeting scheduled for February 26, 2009. Executive Session scheduled for March 3, 2009. Open Meeting scheduled for March 5, 2009.

Date and Time: Wednesday, March 4, 2009, at 10 a.m. and Thursday, March 5, 2009, at 2 p.m.

Place: 999 E Street, NW., Washington, DC.

Status: These meetings will be closed to the public.

Items to be Discussed: Compliance matters pursuant to 2 U.S.C. 437g. Audits conducted pursuant to 2 U.S.C. 437g, 438(b), and Title 26, U.S.C. Matters concerning participation in civil actions or proceedings or arbitration. Internal personnel rules and procedures or matters affecting a particular employee.

Person to Contact for Information: Judith Ingram, Press Officer, Telephone: (202) 694-1220.

Mary W. Dove,
Secretary of the Commission.

[FR Doc. E9-4662 Filed 3-4-09; 8:45 am]

BILLING CODE 6715-01-M